DEPARTMENT OF HEALTH AND HUMAN SERVICES

Office of the Secretary

Agency Information Collection Activities: Submission for OMB Review; Comment Request

The Department of Health and Human Services, Office of the Secretary publishes a list of information collections it has submitted to the Office of Management of Budget (OMB) for clearance in compliance with the Paperwork Reduction Act of 1995 (44 U.S.C. Chapter 35) and 5 CFR 1320.5. The following are those information collections recently submitted to OMB.

1. National Centers of Excellence in Women's Health Program Quantitative Evaluation Survey—NEW—The Office on Women's Health is proposing a survey of patients receiving services at the fifteen National Center of Excellence (CoE) in Women's Health clinical care centers. This survey will provide an assessment of the level of patient satisfaction and service utilization at the CoEs for comparison to other data on women's health service utilization.

Respondents: Individuals.

Number of Respondents: 3,000.

Burden per Response: 20 minutes.

Total Burden: 1,000 hours.

OMB Desk Officer: Allison Eydt.

Copies of the information collection packages listed above can be obtained by calling the OS Reports Clearance Officer on (202) 690-6207. Written comments and recommendations for the proposed information collection should be sent directly to the OMB desk officer designated above at the following address: Human Resources and Housing Branch, Office of Management and Budget, New Executive Office Building, Room 10235, 725 17th Street NW., Washington, DC 20503.

Comments may also be sent to Cynthia Agens Bauer, OS Reports Clearance Officer, Room 503H, Humphrey Building, 200 Independence Avenue S.W., Washington, DC 20201. Written comments should be received within 30 days of this notice.

Dated: November 27, 2000.
Dennis P. Williams,
Deputy Assistant Secretary, Budget.

[FR Doc. 00-30964 Filed 12-5-00; 8:45 am]

BILLING CODE 4150-33-M